DEPARTMENT OF VETERANS AFFAIRS

FY 2014-2020 Draft VA Strategic Plan

AGENCY: Department of Veterans Affairs.

ACTION: Notice of Availability and Request for Comments.

SUMMARY: The Department of Veterans Affairs (VA) is announcing the availability of the FY 2014-2020 Draft VA Strategic Plan (Strategic Plan) for public review and comment, as required by the Government Performance and Results Act Modernization Act of 2010 (GPRAMA) (Pub. L. 111-352).

The Strategic Plan provides the Department's long-term direction and places a stronger emphasis on defining success by Veterans' outcomes; enhancing the quality of and access to benefits and services through integration within VA and with our partners; and developing our workforce with the skills, tools, and leadership to meet our clients' needs and expectations.

DATES: Comments must be received by VA on or before October 15, 2013.

ADDRESSES: Written comments may be submitted through www.Regulations.gov; by mail or hand-delivery to Director, Regulation Policy and Management (02REG), Department of Veterans Affairs, 810 Vermont Avenue NW., Room 1068, Washington, DC 20420; or by fax to (202) 273-9026. Comments should indicate that they are submitted in response to the “FY 2014-2020 Draft VA Strategic Plan.” Please view and download the draft Strategic Plan for public comment at http://www.va.gov/performance/docs/VA2014StrategicPlanDraft20130808.pdf. Copies of comments received will be available for public inspection in the Office of Regulation Policy and Management, Room 1068, between the hours of 8:00 a.m. and 4:30 p.m., Monday through Friday (except holidays). Please call (202) 461-4902 for an appointment. This is not a toll-free number. In addition, during the comment period, comments may be viewed online through the Federal Docket Management System (FDMS) at www.Regulations.gov.

FOR FURTHER INFORMATION CONTACT: Susan Sullivan, Acting Deputy Assistant Secretary, Office of Policy, Office of Policy and Planning at (202) 461- 5831. This is not a toll-free number.

SUPPLEMENTARY INFORMATION: The GPRAMA creates a more defined performance framework by defining a governance structure and by better connecting plans, programs, and performance information. Specifically, GPRAMA requires agencies require more frequent reporting and reviews (quarterly instead of annually) that are intended to increase the use of performance information in program decision-making.

The FY 2014-2020 Draft VA Strategic Plan builds on the prior (fiscal year (FY) 2011-2015) VA strategic plan. It outlines how the Department is transforming itself and how it will continue to increase access, eliminate the claims backlog, and end Veteran homelessness. In addition, this plan places a stronger emphasis on defining success by Veteran outcomes; enhancing the quality of and access to benefits and services through integration within VA and with our partners; and developing our workforce with the skills, tools, and leadership to meet our clients' needs and expectations.

VA's FY 2014-2020 strategic goals are to: (1) Empower Veterans to Improve Their Well-being; (2) Enhance and Develop Trusted Partnerships; and (3) Manage and Improve VA Operations to Deliver Seamless and Integrated Support. The strategic goals are statements of what VA wants to achieve to advance our mission and address changes and opportunities. VA's FY 2014-2020 goals and objectives shift the focus from improvements within a service or benefit delivery program to coordination and integration across programs and organizations, measuring performance by the ultimate outcome for Veterans and putting Veterans in control of how, when, and where they wish to be served.

As appropriate, public input received will be included in the updated Strategic Plan; however, VA will not be able to provide individual responses to the public comments that are received.

Signing Authority

The Secretary of Veterans Affairs, or designee, approved this document and authorized the undersigned to sign and submit the document to the Office of the Federal Register for publication electronically as an official document of the

Department of Veterans Affairs. Jose D. Riojas, Chief of Staff, Department of Veterans Affairs, approved this document on September 5, 2013, for publication.

Dated: September 6, 2013.
William F. Russo,
Deputy Director, Office of Regulation Policy and Management, Office of the General Counsel, Department of Veterans Affairs.

[FR Doc. 2013-22150 Filed 9-11-13; 8:45 am]

BILLING CODE 8320-01-P